DEPARTMENT OF HOMELAND SECURITY

Federal Emergency Management Agency

[Docket ID FEMA-2012-0003; Internal Agency Docket No. FEMA-B-1277]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama:
Jefferson | City of Pinson (12-04-3890P) | The Honorable Hoyt Sanders, Mayor, City of Pinson, City Hall, 4410 Main Street, Pinson, AL 35126 | City Hall, 4410 Main Street, Pinson, AL 35126 | http://www.bakeraecom.com/index.php/alabama/jefferson-3/ | December 17, 2012 | 010447
Jefferson | Unincorporated areas of Jefferson County (12-04-3890P) | The Honorable David Carrington, President, Jefferson County Commission, 716 Richard Arrington, Jr. Boulevard North, Birmingham, AL 35203 | Jefferson County Courthouse, Land Development Office, 716 North 21st Street, Room 202A, Birmingham, AL 35263 | http://www.bakeraecom.com/index.php/alabama/jefferson-3/ | December 17, 2012 | 010217
Mobile | City of Mobile (12-04-4167P) | The Honorable Samuel L. Jones, Mayor, City of Mobile, P. O. Box 1827, Mobile, AL 36633 | City Hall, Engineering Department, 205 Government Street, 3rd Floor, Mobile, AL 36644 | http://www.bakeraecom.com/index.php/alabama/mobile/ | December 28, 2012 | 015007
Mobile | Unincorporated areas of Mobile County (12-04-0467P) | The Honorable Connie Hudson, President, Mobile County Commission, P. O. Box 1443, Mobile, AL 36633 | Mobile County, Government Plaza, Engineering Department, 205 Government Street, 3rd Floor, South Tower, Mobile, AL 36644 | http://www.bakeraecom.com/index.php/alabama/mobile/ | December 7, 2012 | 015008
Mobile | Unincorporated areas of Mobile County (12-04-0468P) | The Honorable Connie Hudson, President, Mobile County Commission, P. O. Box 1443, Mobile, AL 36633 | Mobile County, Government Plaza, Engineering Department, 205 Government Street, 3rd Floor, South Tower, Mobile, AL 36644 | http://www.bakeraecom.com/index.php/alabama/mobile/ | December 7, 2012 | 015008
Mobile | Unincorporated areas of Mobile County (12-04-0469P) | The Honorable Connie Hudson, President, Mobile County Commission, P. O. Box 1443, Mobile, AL 36633 | Mobile County Government Plaza, Engineering Department, 205 Government Street, 3rd Floor, South Tower, Mobile, AL 36644 | http://www.bakeraecom.com/index.php/alabama/mobile/ | December 7, 2012 | 015008
Mobile | Unincorporated areas of Mobile County (12-04-0470P) | The Honorable Connie Hudson, President, Mobile County Commission, P. O. Box 1443, Mobile, AL 36633 | Mobile County, Government Plaza, Engineering Department, 205 Government Street, 3rd Floor, South Tower, Mobile, AL 36644 | http://www.bakeraecom.com/index.php/alabama/mobile/ | December 7, 2012 | 015008
Arizona:
Coconino | City of Flagstaff (11-09-4084P) | The Honorable Jerry Nabours, Mayor, City of Flagstaff, 211 West Aspen Avenue, Flagstaff, AZ 86001 | City Hall, Utilities Department, 211 West Aspen Avenue, Flagstaff, AZ 86001 | http://www.r9map.org/Docs/11-09-4084P-040020-102IC.pdf | November 19, 2012 | 040020
Coconino | City of Flagstaff (12-09-1657P) | The Honorable Jerry Nabours, Mayor, City of Flagstaff, 211 West Aspen Avenue, Flagstaff, AZ 86001 | City Hall, Utilities Department, 211 West Aspen Avenue, Flagstaff, AZ 86001 | http://www.r9map.org/Docs/12-09-1657P-040020-102IAC.pdf | November 12, 2012 | 040020
Maricopa | City of Avondale (12-09-1467P) | The Honorable Marie Lopez Rogers, Mayor, City of Avondale, 11465 West Civic Center Drive, Avondale, AZ 85323 | 1225 South 4th Street, Avondale, AZ 85323 | http://www.r9map.org/Docs/12-09-1467P-040038-102IAC.pdf | November 30, 2012 | 040038
Maricopa | City of Goodyear (12-09-1467P) | The Honorable Georgia Lord, Mayor, City of Goodyear, 190 North Litchfield Road, Goodyear, AZ 85338 | 119 North Litchfield Road, Goodyear, AZ 85338 | http://www.r9map.org/Docs/12-09-1467P-040046-102IAC.pdf | November 30, 2012 | 040046
Maricopa | Unincorporated areas of Maricopa County (12-09-1467P) | The Honorable Max Wilson, Chair, Maricopa County Board of Supervisors, 301 West Jefferson Street, Phoenix, AZ 85003 | 2801 West Durango Street, Phoenix, AZ 85009 | http://www.r9map.org/Docs/12-09-1467P-040037-102IAC.pdf | November 30, 2012 | 040037
Maricopa | Unincorporated areas of Maricopa County (12-09-1031P) | The Honorable Max Wilson, Chair, Maricopa County, Board of Supervisors, 301 West Jefferson Street, Phoenix, AZ 85003 | 2801 West Durango Street, Phoenix, AZ 85009 | http://www.r9map.org/Docs/12-09-1031P-040037-102IAC.pdf | December 7, 2012 | 040037
Pinal | Unincorporated areas of Pinal County (12-09-1236P) | The Honorable David Snider, Chairman, Pinal County Board of Supervisors, P.O. Box 827, Florence, AZ 85132 | Pinal County Engineering Department, 31 North Pinal Street, Building F Florence, AZ 85232 | http://www.r9map.org/Docs/12-09-1236P-040077-102IAC.pdf | January 7, 2013 | 040077
Yavapai | Town of Camp Verde (12-09-1430P) | The Honorable Bob Burnside, Mayor, Town of Camp Verde, 473 South Main Street, Suite 102, Camp Verde, AZ 86322 | Town Clerk's Office, 473 South Main Street, Room 102, Camp Verde, AZ 86322 | http://www.r9map.org/Docs/12-09-1430P-040131-102IAC.pdf | December 31, 2012 | 040131
California:
Orange | City of Irvine (12-09-1694P) | The Honorable Sukhee Kang, Mayor, City of Irvine, 1 Civic Center Plaza, Irvine, CA 92606 | 1 Civic Center Plaza, Irvine, CA 92606 | http://www.r9map.org/Docs/12-09-1694P-060222-102IAC.pdf | November 7, 2012 | 060222
San Diego | City of Oceanside (12-09-1206P) | The Honorable Jim Wood, Mayor, City of Oceanside, 300 North Coast Highway, Oceanside, CA 92054 | City Hall, Planning Department, 300 North Coast Highway, Oceanside, CA 92054 | http://www.r9map.org/Docs/12-09-1206P-060294-102IAC.pdf | December 31, 2012 | 060294
San Diego | City of San Diego (12-09-2141P) | The Honorable Jerry Sanders, Mayor, City of San Diego, 202 C Street, 11th Floor, San Diego, CA 92101 | Executive Complex, 1010 2nd Avenue, Suite 100, San Diego, CA 92101 | http://www.r9map.org/Docs/12-09-2141P-060295-102IAC.pdf | December 17, 2012 | 060295
San Diego | Unincorporated areas of San Diego County (12-09-0511P) | The Honorable Ron Roberts, Chairman, San Diego County Board of Supervisors, 1600 Pacific Highway, Room 335, San Diego, CA 92101 | San Diego County Department of Public Works, 5201 Ruffin Road, Suite P, San Diego, CA 92123 | http://www.r9map.org/Docs/12-09-0511P-060284-102IAC.pdf | December 3, 2012 | 060284
Colorado:
Denver | City and County of Denver (12-08-0474P) | The Honorable Michael B. Hancock, Mayor, City and County of Denver, 1437 Bannock Street, Suite 350, Denver, CO 80202 | Public Works Department, 201 West Colfax Avenue, Denver, CO 80202 | http://www.bakeraecom.com/index.php/colorado/denver/ | December 17, 2012 | 080046
Denver | City and County of Denver (12-08-0552P) | The Honorable Michael B. Hancock, Mayor, City and County of Denver, 1437 Bannock Street, Suite 350, Denver, CO 80202 | Public Works Department, 201 West Colfax Avenue, Denver, CO 80202 | http://www.bakeraecom.com/index.php/colorado/denver/ | December 17, 2012 | 080046
El Paso | City of Colorado Springs (12-08-0168P) | The Honorable Stephen G. Bach, Mayor, City of Colorado Springs, 30 South Nevada Avenue, Suite 601, Colorado Springs, CO 80903 | City Administration Department, 30 South Nevada Avenue, Colorado Springs, CO 80903 | http://www.bakeraecom.com/index.php/colorado/el-paso/ | January 4, 2013 | 080060
El Paso | City of Fountain (12-08-0499P) | The Honorable Jeri Howells, Mayor, City of Fountain, 116 South Main Street, Fountain, CO 80817 | 116 South Main Street, Fountain, CO 80817 | http://www.bakeraecom.com/index.php/colorado/el-paso/ | December 12, 2012 | 080061
El Paso | Unincorporated areas of El Paso County (12-08-0168P) | The Honorable Amy Lathen, Chair, El Paso County Board of Commissioners, 200 South Cascade Avenue, Suite 100, Colorado Springs, CO 80903 | El Paso County Regional Building Department, 2880 International Circle, Colorado Springs, CO 80910 | http://www.bakeraecom.com/index.php/colorado/el-paso/ | January 4, 2013 | 080059
El Paso | Unincorporated areas of El Paso County (12-08-0499P) | The Honorable Amy Lathen, Chair, El Paso County Board of Commissioners, 200 South Cascade Avenue, Suite 100, Colorado Springs, CO 80903 | El Paso County Building Department, 2880 International Circle, Colorado Springs, CO 80910 | http://www.bakeraecom.com/index.php/colorado/el-paso/ | December 12, 2012 | 080059
Connecticut:
New Haven | City of Meriden (11-01-2893P) | The Honorable Michael S. Rohde, Mayor, City of Meriden, 142 East Main Street, Meriden, CT 06450 | 142 East Main Street Meriden, CT 06450 | http://www.starr-team.com/starr/LOMR/Pages/RegionI.aspx | December 7, 2012 | 090081
New Haven | City of New Haven (11-01-2488P) | The Honorable John Destefano, Jr., Mayor, City of New Haven, 165 Church Street, New Haven, CT 06510 | 200 Orange Street, New Haven, CT 06510 | http://www.starr-team.com/starr/LOMR/Pages/RegionI.aspx | October 5, 2012 | 090084
New Haven | Town of East Haven (11-01-2488P) | The Honorable Joseph Maturo, Jr., Mayor, Town of East Haven, 250 Main Street, East Haven, CT 06512 | 461 North High Street, East Haven, CT 06512 | http://www.starr-team.com/starr/LOMR/Pages/RegionI.aspx | October 5, 2012 | 090076
Florida:
Monroe | Village of Islamorada (12-04-3438P) | The Honorable Ken Philipson, Mayor, Village of Islamorada Council, 86800 Overseas Highway, Islamorada, FL 33036 | Village Hall, 87000 Overseas Highway, Islamorada, FL 33036 | http://www.bakeraecom.com/index.php/florida/monroe-3/ | December 31, 2012 | 120424
Orange | City of Orlando (12-04-2707P) | The Honorable Buddy Dyer, Mayor, City of Orlando, P.O. Box 4990, Orlando, FL 32808 | Permitting Services, 400 South Orange Avenue, Orlando, FL 32301 | http://www.bakeraecom.com/index.php/florida/orange-2/ | December 31, 2012 | 120186
Orange | Unincorporated areas of Orange County (12-04-2707P) | The Honorable Teresa Jacobs, Mayor, Orange County, 201 South Rosalind Avenue, 5th Floor, Orlando, FL 32801 | Orange County Stormwater Management Department, 4200 South John Young Parkway, Orlando, FL 32839 | http://www.bakeraecom.com/index.php/florida/orange-2/ | December 31, 2012 | 120179
Seminole | City of Lake Mary (12-04-5487P) | The Honorable David Mealor, Mayor, City of Lake Mary, 911 Wallace Court, Lake Mary, FL 32746 | Engineering Department, 100 North Country Club Road, Lake Mary, FL 32746 | http://www.bakeraecom.com/index.php/florida/seminole-2/ | December 31, 2012 | 120416
St. Johns | Unincorporated areas of St. Johns County (12-04-5869P) | The Honorable Mark P. Miner, Chairman, St. Johns County Board of Commissioners, 500 San Sebastian View, St. Augustine, FL 32084 | St. Johns County Administration Building, 4020 Lewis Speedway, St. Augustine, FL 32084 | http://www.bakeraecom.com/index.php/uncategorized/st-johns/ | December 31, 2012 | 125147
Sumter | Unincorporated areas of Sumter County (12-04-3513P) | The Honorable Garry Breeden, Chairman, Sumter County Board of Commissioners, 7375 Powell Road, Wildwood, FL 34785 | Sumter County Planning Department, 7375 Powell Road, Wildwood, FL 34785 | http://www.bakeraecom.com/index.php/florida/sumter-2/ | December 28, 2012 | 120296
Sumter | Unincorporated areas of Sumter County (12-04-3721P) | The Honorable Garry Breeden, Chairman, Sumter County Board of Commissioners, 7375 Powell Road, Wildwood, FL 34785 | Sumter County Planning Department, 7375 Powell Road, Wildwood, FL 34785 | http://www.bakeraecom.com/index.php/florida/sumter-2/ | December 28, 2012 | 120296
Walton | Unincorporated areas of Walton County (12-04-0761P) | The Honorable Scott Brannon, Chairman, Walton County Board of Commissioners, 415 State Highway, 20 Freeport, FL 32439 | Walton County Courthouse Annex, 47 North 6th Street, DeFuniak Springs, FL 32435 | http://www.bakeraecom.com/index.php/florida/walton/ | December 14, 2012 | 120317
Georgia:
Chatham | City of Savannah (12-04-3661P) | The Honorable Otis Johnson, Mayor, City of Savannah, P.O. Box 1027, Savannah, GA 31402 | City Hall, 2 East Bay Street, Savannah, GA 31401 | http://www.bakeraecom.com/index.php/georgia/chatham/ | December 10, 2012 | 135163
Colquitt | Unincorporated areas of Colquitt County (12-04-5279P) | The Honorable John B. Alderman, Chairman, Colquitt County Board of Commissioners, P. O. Box 517, Moultrie, GA 31776 | Colquitt County Compliance Office, 101 East Central Avenue, Suite 168, Moultrie, GA 31768 | http://www.bakeraecom.com/index.php/georgia/colquitt/ | January 3, 2013 | 130058
Columbia | Unincorporated areas of Columbia County (12-04-3178P) | The Honorable Ron C. Cross, Chairman, Columbia County Board of Commissioners, P. O. Box 498, Evans, GA 30809 | Columbia County Development Services Division, Engineering Services Department, 630 Ronald Regan Drive, Building A, Evans, GA 30809 | http://www.bakeraecom.com/index.php/georgia/columbia-2/ | December 27, 2012 | 130059
Muscogee | City of Columbus—Muscogee County (Consolidated Government) (12-04-1268P) | The Honorable Teresa Tomlinson, Mayor, City of Columbus—Muscogee County (Consolidated Government), 100 10th Street, Columbus, GA 31901 | Engineering Department, 420 10th Street, 2nd Floor, Columbus, GA 31901 | http://www.bakeraecom.com/index.php/georgia/muskogee/ | September 24, 2012 | 135158
Idaho:
Ada | City of Eagle (12-10-0460P) | The Honorable Jim Reynolds, Mayor, City of Eagle, 660 East Civic Lane, Eagle, ID 83616 | 660 East Civic Lane, Eagle, ID 83616 | http://www.starr-team.com/starr/LOMR/Pages/RegionX.aspx | October 5, 2012 | 160003
Ada | Unincorporated areas of Ada County (12-10-0460P) | The Honorable Rick Yzaguirre, Chairman, Ada County Board of Commissioners, 200 West Front Street, Boise, ID 83702 | 200 West Front Street, Boise, ID 83702 | http://www.starr-team.com/starr/LOMR/Pages/RegionX.aspx | October 5, 2012 | 160001
Illinois:
DuPage | City of Elmhurst (12-05-5094P) | The Honorable Peter P. DiCianni, Mayor, City of Elmhurst, 209 North York Street, Elmhurst, IL 60126 | 209 North York Street, Elmhurst, IL 60126 | http://www.starr-team.com/starr/LOMR/Pages/RegionV.aspx | November 30, 2012 | 170205
Kane | City of Aurora (12-05-2993P) | The Honorable Thomas Weisner, Mayor, City of Aurora, 44 East Downer Place, Aurora, IL 60507 | 44 East Downer Place, Aurora, IL 60507 | http://www.starr-team.com/starr/LOMR/Pages/RegionV.aspx | November 16, 2012 | 170320
Indiana:
Allen | Unincorporated areas of Allen County (12-05-1513P) | The Honorable Nelson Peters, President, Allen County Board of Commissioners, 200 East Berry Street, Suite 410, Fort Wayne, IN 46802 | 1 East Main Street, Room 630, Fort Wayne, IN 46802 | http://www.starr-team.com/starr/LOMR/Pages/RegionV.aspx | November 13, 2012 | 180302
Lake | City of New Haven (12-05-1513P) | The Honorable Terry E. McDonald, Mayor, City of New Haven, 815 Lincoln Highway East, New Haven, IN 46774 | 815 Lincoln Highway East, New Haven, IN 46774 | http://www.starr-team.com/starr/LOMR/Pages/RegionV.aspx | November 13, 2012 | 180004
Lake | City of Hobart (12-05-0788P) | The Honorable Brian K. Snedecor, Mayor, City of Hobart, 414 Main Street, Hobart, IN 46342 | 414 Main Street, Hobart, IN 46342 | http://www.starr-team.com/starr/LOMR/Pages/RegionV.aspx | December 3, 2012 | 180136
Kansas:
Johnson | City of Fairway (11-07-3430P) | The Honorable Jerry Wiley, Mayor, City of Fairway, 4210 Shawnee Mission Parkway, Suite 100, Fairway, KS 66205 | 5252 Beliner Road, Fairway, KS 66205 | http://www.starr-team.com/starr/LOMR/Pages/RegionVII.aspx | November 14, 2012 | 205185
Johnson | City of Roeland Park (11-07-3422P) | The Honorable Adrienne Foster, Mayor, City of Roeland Park, 4600 West 51st Street, Roeland Park, KS 66205 | 4600 West 51st Street, Roeland Park, KS 66205 | http://www.starr-team.com/starr/LOMR/Pages/RegionVII.aspx | November 7, 2012 | 200176
Johnson | City of Roeland Park (11-07-3430P) | The Honorable Adrienne Foster, Mayor, City of Roeland Park, 4600 West 51st Street, Roeland Park, KS 66205 | 4600 West 51st Street, Roeland Park, KS 66205 | http://www.starr-team.com/starr/LOMR/Pages/RegionVII.aspx | November 14, 2012 | 200176
Maine:
Cumberland | City of Portland (12-01-0692P) | The Honorable Michael Brennan, Mayor, City of Portland, 389 Congress Street, Portland, ME 04101 | 389 Congress Street, Room 315 Portland, ME 04101 | http://www.starr-team.com/starr/LOMR/Pages/RegionI.aspx | November 9, 2012 | 230051
Penobscot | Town of Hermon (12-01-0085P) | The Honorable Tim McCluskey, Chairman, Town of Hermon Council, 333 Billings Road, Hermon, ME 04401 | 333 Billings Road, Hermon, ME 04401 | http://www.starr-team.com/starr/LOMR/Pages/RegionI.aspx | October 12, 2012 | 230389
Washington | Town of Milbridge (12-01-1740P) | The Honorable Lewis M. Pinkham, Town Manager, Town of Milbridge, 22 School Street, Milbridge, ME 04658 | 22 School Street, Milbridge, ME 04658 | http://www.starr-team.com/starr/LOMR/Pages/RegionI.aspx | December 19, 2012 | 230142
Nevada:
Clark | City of Henderson (11-09-3331P) | The Honorable Andy A. Hafen, Mayor, City of Henderson, P.O. Box 95050, Henderson, NV 89009 | City Hall, Public Works Department, 240 Water Street, Henderson, NV 89015 | http://www.r9map.org/Docs/11-09-3331P-320005-102IC.pdf | December 14, 2012 | 320005
Clark | City of Henderson (12-09-2303P) | The Honorable Andy A. Hafen, Mayor, City of Henderson, P.O. Box 95050, Henderson, NV 89009 | City Hall, Public Works Department, 240 Water Street, Henderson, NV 89015 | http://www.r9map.org/Docs/12-09-2303P-320005-102IC.pdf | December 14, 2012 | 320005
Clark | City of Mesquite (11-09-4157P) | The Honorable Mark Wier, Mayor, City of Mesquite, 10 East Mesquite Boulevard, Mesquite, NV 89027 | City Engineer's Office, 10 East Mesquite Boulevard, Mesquite, NV 89027 | http://www.r9map.org/Docs/11-09-4157P-320035-102IAC.pdf | December 14, 2012 | 320035
Clark | City of Mesquite (12-09-0907P) | The Honorable Mark Wier, Mayor, City of Mesquite, 10 East Mesquite Boulevard, Mesquite, NV 89027 | City Engineer's Office, 10 East Mesquite Boulevard, Mesquite, NV 89027 | http://www.r9map.org/Docs/12-09-0907P-320035-102IC.pdf | December 28, 2012 | 320035
North Carolina:
Mecklenburg | Town of Davidson (12-04-0595P) | The Honorable John Woods, Mayor, Town of Davidson, 216 South Main Street, Davidson, NC 28036 | Charlotte-Mecklenburg Stormwater Services Division, 700 North Tryon Street, Charlotte, NC 28202 | http://www.bakeraecom.com/index.php/northcarolina/mecklenburg-pmr-2/ | December 3, 2012 | 370503
Mecklenburg | Unincorporated areas of Mecklenburg County (12-04-0595P) | The Honorable Harry L. Jones, Sr., Mecklenburg County Manager, Government Center, 600 East 4th Street, Charlotte, NC 28202 | Charlotte-Mecklenburg Stormwater Services Division, 700 North Tryon Street, Charlotte, NC 28202 | http://www.bakeraecom.com/index.php/northcarolina/mecklenburg-pmr-2/ | December 3, 2012 | 370158
South Carolina:
Anderson | City of Anderson (12-04-0672P) | The Honorable Terrence Roberts, Mayor, City of Anderson, 401 South Main Street, Anderson, SC 29624 | City Hall, 401 South Main Street, Anderson, SC 29624 | http://www.bakeraecom.com/index.php/southcarolina/anderson/ | December 24, 2012 | 450014
Anderson | Unincorporated areas of Anderson County (12-04-0672P) | The Honorable Tom Allen, Chairman, Anderson County Council, P.O. Box 8002, Anderson, SC 29621 | Anderson County Courthouse, 101 South Main Street, Anderson, SC 29624 | http://www.bakeraecom.com/index.php/southcarolina/anderson/ | December 24, 2012 | 450013
Laurens | Unincorporated areas of Laurens County (12-04-2186P) | The Honorable James A. Coleman, Chairman, Laurens County Council, P.O. Box 445, Laurens, SC 29360 | Laurens County Courthouse, 3 Catherine Street, Laurens, SC 29360 | http://www.bakeraecom.com/index.php/southcarolina/laurens/ | December 6, 2012 | 450122

(Catalog of Federal Domestic Assistance No. 97.022, “Flood Insurance.”)

Dated: November 8, 2012.
James A. Walke,
Acting Deputy Associate Administrator for Mitigation, Department of Homeland Security, Federal Emergency Management Agency.

[FR Doc. 2012-29681 Filed 12-7-12; 8:45 am]

BILLING CODE 9110-12-P